DEPARTMENT OF THE INTERIOR

National Park Service

Telecommunications Facilities; Construction and Operation; Golden Gate National Recreation Area, San Francisco, CA

AGENCY: Golden Gate National Recreation Area, NPS, DOI.

ACTION: Public notice.

SUMMARY: Public notice is hereby given that the Golden Gate National Recreation Area proposes to consider the application of GTE/Verizon for an amendment extenting an existing agreement for the operation of a wireless communication facility adjacent to the Golden Gate Bridge Toll Plaza located in the Golden Gate Bridge, Transportation and Highway District right-of-way immediately south of the Golden Gate Bridge in San Francisco, CA.

EFFECTIVE DATE: Comments will be accepted on, or before, September 25, 1999.

ADDRESSEES: Interested parties should contact National Park Service, Superintendent's Office, GGNRA, Building 201, Fort Mason, San Francisco, CA 94123. To obtain a copy of the initial application, contact Richard Louthan at (415) 561-4729.

SUPPLEMENTARY INFORMATION: The application made by GTE/Verizon requests that the existing agreement be extended for a period of ten years and the addition of two wireless telephone panels to the wireless telephone facility serving users in the area immediately south of the Golden Gate Bridge.

The Superintendent will consider and evaluate all comments resulting from this public notice before authorizing execution of this agreement.

Dated: August 14, 2000.
Brian O'Neill,
Superintendent, Golden Gate National Recreation Area.

[FR Doc. 00-21721 Filed 8-24-00; 8:45 am]

BILLING CODE 4310-70-P